COMMODITY FUTURES TRADING COMMISSION

Sunshine Act Meetings

TIME AND DATE: 10:00 a.m., Wednesday, October 16, 2019.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Notice of Proposed Rulemaking—Amendment to Regulation 23.161—Compliance Schedule Extension; and

• Notice of Proposed Rulemaking—Amendments to the Margin Rule for Uncleared Swaps—23.151 and 23.157.

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: October 9, 2019.
Christopher Kirkpatrick,
Secretary of the Commission.

[FR Doc. 2019-22476 Filed 10-10-19; 11:15 am]

BILLING CODE 6351-01-P